DEPARTMENT OF TRANSPORTATION

Federal Highway Administration

Environmental Impact Statement: New Hanover County, NC

AGENCY: Federal Highway Administration (FHWA), DOT.

ACTION: Notice of intent.

SUMMARY: The FHWA is issuing this notice to advise the public that an environmental impact statement will be prepared for the proposed extension of Independence Boulevard in New Hanover County, North Carolina.

FOR FURTHER INFORMATION CONTACT: John F. Sullivan, III, PE, Division Administrator, Federal Highway Administration, 310 New Bern Avenue, Ste 410, Raleigh, North Carolina 27601-1418, Telephone: (919) 856-4346.

SUPPLEMENTARY INFORMATION: The FHWA, in cooperation with the North Carolina Department of Transportation, will prepare an environmental impact statement (EIS) on a proposal to provide an extension to Independence Boulevard in New Hanover County, North Carolina. The proposed improvement would involve the extension of Independence Boulevard as an urban boulevard with a grass median and partially controlled access between Randall Parkway and Martin Luther King Jr. Parkway for a distance of about 2 miles.

Improvements to the corridor are considered necessary to provide for the existing and projected traffic demand. Also, included in this proposal is the potential construction of a partial cloverleaf interchange at Princess Place (with ramps and loops in the southwest and northeast quadrants, and spanning the CSX Railroad crossing). A trumpet interchange at Martin Luther King, Jr. Parkway may also be necessary. Letters describing the proposed action and soliciting comments will be sent to appropriate Federal, State, and local agencies, and to private organizations and citizens who have previously expressed or are known to have interest in this proposal. Public meetings will be held in Wilmington, North Carolina throughout the development of the EIS. In addition, a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: January 4, 2005.
John F. Sullivan, III,
Division Administrator, Raleigh, North Carolina.

[FR Doc. 05-914 Filed 1-14-05; 8:45 am]

BILLING CODE 4910-22-M